DEPARTMENT OF TRANSPORTATION

Federal Aviation Administration

14 CFR Part 39

[Docket No. FAA-2014-0514; Directorate Identifier 2014-SW-027-AD; Amendment 39-17925; AD 2014-16-01]

RIN 2120-AA64

Airworthiness Directives; MD Helicopters, Inc., Helicopters

AGENCY: Federal Aviation Administration (FAA), DOT.

ACTION: Final rule; request for comments.

SUMMARY: We are adopting a new airworthiness directive (AD) for MD Helicopters, Inc. (MDHI), Model MD900 helicopters. This AD requires an eddy current inspection of the main rotor upper hub assembly (upper hub) for a crack and replacing the upper hub with an airworthy upper hub before further flight if there is a crack. This AD is prompted by a report of cracks on an upper hub at the blade attach holes. The actions specified by this AD are intended to detect a crack in the upper hub to prevent failure of the upper hub and subsequent loss of control of the helicopter.

DATES: This AD becomes effective August 20, 2014.

The Director of the Federal Register approved the incorporation by reference of a certain document listed in this AD as of August 20, 2014.

We must receive comments on this AD by October 6, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, any incorporated by reference service information, the economic evaluation, any comments received, and other information. The street address for the Docket Operations Office (telephone 800-647-5527) is in the ADDRESSES section. Comments will be available in the AD docket shortly after receipt.

For service information identified in this AD, contact MD Helicopters, Inc., Attn: Customer Support Division, 4555 E. McDowell Rd., Mail Stop M615, Mesa, AZ 85215-9734; telephone 1-800-388-3378; fax 480-346-6813; or at http://www.mdhelicopters.com. You may review the referenced service information at the FAA, Office of the Regional Counsel, Southwest Region, 2601 Meacham Blvd., Room 663, Fort Worth, Texas 76137.

FOR FURTHER INFORMATION CONTACT: Eric Schrieber, Aviation Safety Engineer, Los Angeles Aircraft Certification Office, Transport Airplane Directorate, FAA, 3960 Paramount Blvd., Lakewood, California 90712; telephone (562) 627-5348; email eric.schrieber@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for MDHI Model MD900 helicopters. This AD requires cleaning the upper hub and performing an eddy current inspection of the upper hub for a crack. If there is a crack, this AD requires replacing the upper hub with an airworthy upper hub before further flight. This AD is prompted by a report that four cracks were found at the blade attach holes on a high-time upper hub. This is the first time a crack has been reported in an upper hub at this location in the MD900 fleet. We are issuing this AD to detect a crack on the upper hub, which if not corrected could result in failure of the upper hub and subsequent loss of control of the helicopter.

FAA's Determination

We are issuing this AD because we evaluated all the relevant information and determined the unsafe condition described previously is likely to exist or develop in other helicopters of the same type design.

Related Service Information

MDHI has issued Service Bulletin SB900-122, dated April 8, 2014. The service bulletin specifies a one-time visual inspection of the upper hub for a crack and damage. If there is damage, the service bulletin specifies replacing the upper hub with an airworthy upper hub. If there are no visible cracks or damage, the service bulletin specifies performing a one-time eddy current inspection. If there is a crack, the service bulletin specifies removing the upper hub, tagging it as unairworthy and returning it to MDHI, and replacing it with an airworthy upper hub.

AD Requirements

This AD requires, within the next 25 hours time-in-service (TIS) or at the next annual inspection, whichever occurs first, cleaning the upper hub inspection areas and eddy current inspecting the upper hub for a crack. The eddy current inspection must be done by a level II or higher technician with the National Aerospace Standard 410 or equivalent certification who has performed an eddy current inspection in the last 12 months. If there is a crack, before further flight, this AD requires replacing the upper hub with an airworthy upper hub.

Differences Between This AD and the Service Information

This AD does not require you to contact the manufacturer, return a cracked upper hub to the manufacturer, or do a visual inspection of the upper hub, as does the service information.

Interim Action

We consider this AD interim action. If final action is later identified, we might consider further rulemaking then.

Costs of Compliance

We estimate that this AD will affect 23 helicopters of U.S. Registry. We estimate $85 for labor costs. We estimate 1 work hour to do an eddy current inspection for a cost of $85 per helicopter and a total fleet cost of $1,955. We estimate 11 work hours to replace an upper hub with a required parts cost of $15,998 for a total cost of $16,933 per helicopter.

FAA's Justification and Determination of the Effective Date

Providing an opportunity for public comments before adopting these AD requirements would delay implementing the safety actions needed to correct this known unsafe condition. Therefore, we find that the risk to the flying public justifies waiving notice and comment before adopting this rule because the required corrective actions must be done within 25 hours TIS, which will be accumulated in about one month based on the average flight-hour utilization rate of these helicopters that are mostly used for emergency medical service.

Since an unsafe condition exists that requires the immediate adoption of this AD, we determined that notice an opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-16-01 MD Helicopters, Inc.: Amendment 39-17925; Docket No. FAA-2014-0514; Directorate Identifier 2014-SW-027-AD.

(a) Applicability

This AD applies to Model MD900 helicopters, serial numbers 900-00008 through 900-00140, with main rotor upper hub assembly (upper hub) part number 900R2101006-105, -107, -109, or -111 installed, certificated in any category.

(b) Unsafe Condition

This AD defines the unsafe condition as a cracked upper hub. This condition could result in failure of the upper hub and subsequent loss of control of the helicopter.

(c) Effective Date

This AD becomes effective August 20, 2014.

(d) Compliance

You are responsible for performing each action required by this AD within the specified compliance time unless it has already been previously accomplished.

(e) Required Actions

Within the next 25 hours time-in-service (TIS) or at the next annual inspection, whichever occurs first:

(1) Clean each upper hub inspection area as shown in Figure 1 of MD Helicopters Service Bulletin SB900-122, dated April 8, 2014 (SB900-122).

(2) Eddy current inspect the upper hub for a crack by following the Accomplishment Instructions, paragraphs 2.A.(3) through 2.A.(11) of SB900-122. This eddy current inspection must be performed by a Level II or higher technician with the National Aerospace Standard 410 or equivalent certification who has performed an eddy current inspection within the last 12 months. If there is a crack, before further flight, replace the upper hub with an airworthy upper hub.

(f) Alternative Methods of Compliance (AMOCs)

(1) The Manager, Los Angeles Aircraft Certification Office, FAA, may approve AMOCs for this AD. Send your proposal to: Eric Schrieber, Aviation Safety Engineer, Transport Airplane Directorate, FAA, 3960 Paramount Blvd., Lakewood, California 90712; telephone (562) 627-5348; email eric.schrieber@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Subject

Joint Aircraft Service Component (JASC) Code: 6220 Main Rotor Head.

(h) Material Incorporated by Reference

(1) The Director of the Federal Register approved the incorporation by reference of the service information listed in this paragraph under 5 U.S.C. 552(a) and 1 CFR part 51.

(2) You must use this service information as applicable to do the actions required by this AD, unless the AD specifies otherwise.

(i) MD Helicopters Service Bulletin SB900-122, dated April 8, 2014.

(ii) Reserved.

(3) For MD Helicopters, Inc. service information identified in this AD, contact MD Helicopters, Inc., Attn: Customer Support Division, 4555 E. McDowell Rd., Mail Stop M615, Mesa, AZ 85215-9734; telephone 1-800-388-3378; fax 480-346-6813; or at http://www.mdhelicopters.com.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on July 24, 2014.
Lance T. Gant,
Acting Directorate Manager, Rotorcraft Directorate, Aircraft Certification Service.

[FR Doc. 2014-18163 Filed 8-4-14; 8:45 am]

BILLING CODE 4910-13-P